SUSQUEHANNA RIVER BASIN COMMISSION

Actions Taken at the December 4, 2025 Meeting

AGENCY: Susquehanna River Basin Commission.

ACTION: Notice.

SUMMARY: As part of its regular business meeting held on December 4, 2025 in Harrisburg, Pennsylvania, the Commission approved the applications of certain water resources projects and took additional actions, as set forth in the SUPPLEMENTARY INFORMATION below.

DATES: December 4, 2025.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: The Commission took the following actions at its December 4, 2025 business meeting: (1) adopted Resolution 2025-07 approving the 2026 Regulatory Program Fee Schedule; (2) approved two grant amendments; (3) adopted Resolution 2025-08 for the emergency certificate extension for Mott's LLP—Aspers Plant; and (4) approved 14 regulatory program projects and tabled one project as listed below.

Project Applications Approved:

1. Project Sponsor: Aqua Pennsylvania, Inc. Project Facility: Monroe Manor System, Monroe Township, Snyder County, Pa. Application for renewal of groundwater withdrawal of up to 0.392 mgd (30-day average) from Well 6 (Docket No. 20101202).

2. Project Sponsor and Facility: College Township Water Authority, College Township, Centre County, Pa. Application for renewal of groundwater withdrawal of up to 1.800 mgd (30-day average) from Spring Creek Park Well 1 (Docket No. 19990302).

3. Project Sponsor and Facility: Coterra Energy Inc. (Susquehanna River), Susquehanna Depot Borough, Susquehanna County, Pa. Application for renewal of surface water withdrawal of up to 1.500 mgd (peak day) (Docket No. 20201201).

4. Project Sponsor and Facility: Elizabethville Area Authority, Elizabethville Borough and Washington Township, Dauphin County, Pa. Applications for renewal of groundwater withdrawals (30-day averages) of up to 0.038 mgd from Well 3, 0.031 mgd from Well 4, and 0.036 mgd from Well 5 (Docket Nos. 19930907 and 19981203).

5. Project Sponsor: Essential Power Rock Springs, LLC. Project Facility: Rock Springs Generation Facility, Oakwood District, Cecil County, Md. Application for renewal of consumptive use of up to 0.262 mgd (peak day) (Docket No. 20001203).

6. Project Sponsor and Facility: Expand Operating LLC (Towanda Creek), Monroe Township and Monroe Borough, Bradford County, Pa. Application for renewal of surface water withdrawal of up to 1.500 mgd (peak day) (Docket No. 20201202).

7. Project Sponsor and Facility: Expand Operating LLC (Wyalusing Creek), Rush Township, Susquehanna County, Pa. Application for renewal with modification of surface water withdrawal of up to 3.000 mgd (peak day) (Docket No. 20220604).

8. Project Sponsor and Facility: Indian Trail Mountain Spring Water, Gratz Borough, Dauphin County, Pa. Application for renewal of consumptive use of up to 0.092 mgd (peak day) (Docket No. 20001205).

9. Project Sponsor and Facility: Moccasin Run Golf Club, Inc., West Fallowfield Township, Chester County, Pa. Application for renewal with modification of consumptive use of up to 0.249 mgd (30-day average) (Docket No. 20001204).

10. Project Sponsor and Facility: Pennsylvania Grain Processing LLC, Clearfield Borough, Clearfield County, Pa. Application for groundwater withdrawal of up to 0.259 mgd (30-day average) from Well GW-1, and modification to add a source (Well GW-1) for consumptive use (Docket No. 20220909).

11. Project Sponsor and Facility: RES Coal LLC, Boggs Township, Clearfield County, Pa. Application for renewal with modification of consumptive use of up to 0.099 mgd (30-day average) (Docket No. 20120613).

12. Project Sponsor: Schuylkill County Municipal Authority. Project Facility: Tremont Service Area, Tremont Borough and Tremont Township, Schuylkill County, Pa. Applications for renewal of groundwater withdrawals (30-day averages) of up to 0.194 mgd from Well 4 and 0.087 mgd from Well 15 (Docket Nos. 19950103 and 19990902).

13. Project Sponsor and Facility: State College Borough Water Authority, Benner Township, Centre County, Pa. Applications for renewal of groundwater withdrawals (30-day averages) of up to 1.440 mgd from Well 71, 1.224 mgd from Well 73, 1.584 mgd from Well 78, and 0.576 mgd from Well 79 (Docket No. 19940903).

Project Tabled:

14. Project Sponsor and Facility: Aquaport, LLC, Old Lycoming Township, Lycoming County, Pa. Application for groundwater withdrawal of up to 0.250 mgd (30-day average) from Well 1.

Authority: Public Law 91-575, 84 Stat. 1509 et seq.,18 CFR parts 806, 807, and 808.

Dated: December 4, 2025.
Jason E. Oyler,
General Counsel and Secretary to the Commission.

[FR Doc. 2025-22253 Filed 12-5-25; 8:45 am]

BILLING CODE 7040-01-P